DEPARTMENT OF HEALTH AND HUMAN SERVICES

Administration on Aging

[Program Announcement No. AoA-04-08]

Fiscal Year 2004 Program Announcement; Availability of Funds and Notice Regarding Applications

AGENCY: Administration on Aging, HHS.

ACTION: Announcement of availability of funds and request for applications for the Aging Services Network Integrated Care Management Grants Program.

SUMMARY: The Administration on Aging announces that it will hold a competition under this program announcement for grant awards for up to twenty (20) projects varying in size up to $50,000 each. The approximate amount of federal funds available for these projects is $600,000 and the project period will be one year.

Legislative authority: The Older Americans Act, Public Law 106-501.

(Catalog of Federal Domestic Assistance 93.048, Title IV and Title II, Discretionary Projects).

Purpose of grant awards: The purpose of this grants program is to support the design, implementation, and dissemination of innovative models and approaches that demonstrate how Community Aging Services Providers (CASPs) and Area Agencies on Aging (AAAs) can either build capacity to adopt capitated financing approaches or, partner with Medicare and/or Medicaid managed care organizations, to improve the delivery of services that maximize the health and quality of life for older persons. The projects funded under this program should enhance the integration of health and social services and generate new knowledge and information that will help position the Aging Services Network in the evolving health and long term care environment. Recognizing that successful managed care models and approaches already exist in the Aging Services Network, this program will:

• Identify and document existing models or approaches that can be replicated by other aging services provider organizations, area agencies on aging, and/or managed care organizations (Existing Practices)

• Facilitate further refinements of existing models and approaches that are already in place (Program Enhancements);

• Support the design and/or implementation of new models or approaches that support the Aging Services Network's role in managed care (New Models or Approaches).

Consistent with these objectives, grants will be made in three (3) priority areas:

• Existing Practices. The grantee will develop detailed model replication materials for an existing successful project or approach that is consistent with the purposes of this program.

• Program Enhancements. The grantee will propose to build-upon and expand their existing model or approach in a way that broadens the scope and/or effectiveness of the program and/or gather data to assess the effectiveness of the program.

• New Models or Approaches. The grantee will propose to design and/or implement a new project consistent with the purposes of this program.

The awards will be cooperative agreements in which the grantee and the Administration on Aging work collaboratively to clarify the issues to be addressed by the project.

Awardee activities for this initiative are as follows:

a. Working collaboratively with AoA to refine and implement their project plan.

b. Working collaboratively with AoA, managed care organizations and other grantees under this initiative to refine concepts related to Aging Services Network opportunities concerning managed care. This collaboration will take the form of conference calls, web-based exchanges, on-site discussions, and national meetings.

c. Working collaboratively with AoA to develop and deliver dissemination and replication documents and presentations that are the critical products of these grants for Community Aging Services Provider organizations, Area Agencies on Aging and/or Medicare and/or Medicaid managed care organizations.

AoA activities for this initiative will include expert technical assistance and the coordination of mutual learning opportunities among AoA, grantees under this initiative, other federal agencies (CMS, NIH, CDC, AHRQ), foundations, and other national organizations and experts appropriate to this initiative. AoA activities will also include:

a. Working collaboratively with the grantee to refine project plans and resolve implementation issues.

b. Reviewing and commenting on dissemination and replication documents and presentations that are the critical products of the grants for Community Aging Services Provider organizations, Area Agencies on Aging, and/or Medicare and/or Medicaid managed care organizations.

Eligibility for grant awards and other requirements: Eligibility for grant awards is limited to Community Aging Service Providers (CASPs) and Area Agencies on Aging (AAAs). A CASP is defined as a not-for-profit community-based organization that currently receives funding under the Older Americans Act and has a history and mission focused on the provision of home and community-based services, primarily for older people. Area Agencies on Aging are agencies officially designated as such by a State Unit on Aging under the provisions of the Older Americans Act. Faith-based organizations and Tribal organizations that fit the definition of a CASP or an AAA are encouraged to apply. An AAA can only apply as an AAA. Grantees are required to provide at least 25 percent of the total program costs from non-federal cash or in-kind resources in order to be considered for the award. No organization or agency may apply for more than one grant under this competition.

Executive Order 12372 is not applicable to these grant applications.

Screening criteria: All applications will be screened to assure a level playing field for all applicants. Applications that fail to meet the screening criteria described below will not be reviewed and will receive no further consideration:

1. Postmark Requirements—Applications must be postmarked by midnight of the deadline date indicated below, or hand-delivered by 5:30 p.m. Eastern Time on that date, or submitted electronically by midnight on that date.

2. Organizational Eligibility—Eligibility for grant awards is limited to Community Aging Service Providers (CASPs) and Area Agencies on Aging (AAAs).

3. Responsiveness to Priority Area Description—Applications will be screened on whether the application is responsive to the priority area description.

4. Project Narrative—The Project Narrative section of the application must not exceed 15 pages.

5. Other Programmatic Requirements—None.

Review of applications: Applications will be evaluated against the following criteria:

Purpose and Need for Assistance (25 points); Approach/Method—Workplan and Activities (25 points); Outcomes/Benefits/Impacts (20 points); and Level of Effort, Program Management, and Organizational Capacity (30 points).

DATES: The deadline date for the submission of applications is September 10, 2004.

ADDRESSES: Application kits are available by writing to the U.S. Department of Health and Human Services, Administration on Aging, Washington, DC 20201, by calling 202/357-3447, or online at http://www.grants.gov.

Applications may be mailed to the U.S. Department of Health and Human Services, Administration on Aging, Office of Grants Management, Washington, DC 20201, attn: Margaret Tolson (AoA-04-08).

Applications may be delivered to the U.S. Department of Health and Human Services, Administration on Aging, Office of Grants Management, One Massachusetts Avenue, NW., Room 4604, Washington, DC 20001, attn: Margaret Tolson (AoA-04-08).

If you elect to mail or hand deliver your application you must submit one original and two copies of the application; an acknowledgement card will be mailed to applicants.

Instructions for electronic mailing of grant applications are available at http://www.grants.gov.

FOR FURTHER INFORMATION CONTACT: U.S. Department of Health and Human Services, Administration on Aging, Office of Grants Management, Washington, D.C. 20201, Telephone: (202) 357-3440.

SUPPLEMENTARY INFORMATION: All grant applicants are required to obtain a D-U-N-S number from Dun and Bradstreet. It is a nine-digit identification number, which provides unique identifiers of single business entities. The D-U-N-S number is free and easy to obtain from https://eupdate.dnb.com/requestoptions.html.

Dated: August 2, 2004.
Josefina G. Carbonell,
Assistant Secretary for Aging.

[FR Doc. 04-17941 Filed 8-5-04; 8:45 am]

BILLING CODE 4154-01-P